COMMISSION ON CIVIL RIGHTS

Agenda and Notice of Public Meeting of the South Carolina Advisory Committee

Notice is hereby given, pursuant to the provisions of the rules and regulations of the U.S. Commission on Civil Rights (Commission) and the Federal Advisory Committee Act (FACA) that a meeting of the South Carolina Advisory Committee (Committee) will convene on Tuesday, March 5, 2013, at 10:30 a.m. and adjourn at approximately 11:30 a.m. The meeting will be held at the Aiken County Public Library, 314 Chesterfield Street SW., Aiken, South Carolina, 29801. The purpose of the meeting is for the Committee to receive ethics training and orientation and plan future activities.

Members of the public are entitled to submit written comments; the comments must be received in the regional office by April 5, 2013. Written comments may be mailed to the Southern Regional Office, U.S. Commission on Civil Rights, 61 Forsyth St. SW., Suite 16T126, Atlanta, GA 30303. They may also be faxed to the Commission at (404) 562-7005, or emailed to the Commission at pminari@usccr.gov. Persons who desire additional information may contact the Southern Regional Office at (404) 562-7000.

Hearing-impaired persons who will attend the meeting and require the services of a sign language interpreter should contact the Southern Regional Office at least ten (10) working days before the scheduled date of the meeting.

Records generated from this meeting may be inspected and reproduced at the Southern Regional Office, as they become available, both before and after the meeting. Persons interested in the work of this Committee are directed to the Commission's Web site, http://www.usccr.gov, or may contact the Southern Regional Office at the above email or street address.

The meeting will be conducted pursuant to the rules and regulations of the Commission and FACA.

Dated in Washington, DC, February 13, 2013.
David Mussatt,
Acting Chief, Regional Programs Coordination Unit.

[FR Doc. 2013-03715 Filed 2-15-13; 8:45 am]

BILLING CODE 6335-01-P